DEPARTMENT OF THE TREASURY

Office of the Secretary

Notice of Call for Redemption: 8¾ Percent Treasury Bonds of 2003-08

July 15, 2003.

1. Public notice is hereby given that all outstanding 8¾ percent Treasury Bonds of 2003-08 (CUSIP No. 912810 CE 6) dated November 15, 1978, due November 15, 2008, are hereby called for redemption at par on November 15, 2003, on which date interest on such bonds will cease.

2. Full information regarding the presentation and surrender of such bonds held in coupon and registered form for redemption under this call will be found in Department of Treasury Circular No. 300 dated March 4, 1973, as amended (31 CFR part 306), and from the Definitives Section of the Bureau of the Public Debt (telephone (304) 480-7936), and on the Bureau of the Public Debt's Web site, http://www.publicdebt.treas.gov.

3. Redemption payments for such bonds held in book-entry form, whether on the books of the Federal Reserve Banks or in Treasury-Direct accounts, will be made automatically on November 15, 2003.

Donald V. Hammond,
Fiscal Assistant Secretary.

[FR Doc. 03-17845 Filed 7-15-03; 8:45 am]

BILLING CODE 4810-40-M